OFFICE OF NATIONAL DRUG CONTROL POLICY

Meeting of the Advisory Commission on Drug Free Communities

AGENCY: Office of National Drug Control Policy.

ACTION: Notice of meeting.

SUMMARY: In accordance with the Drug-Free Communities Act, a meeting of the Advisory Commission on Drug Free Communities will be held on July 22 & 23, 2003 at the Office of National Drug Control Policy in the 5TH Floor Conference Room, 750 17th Street NW., Washington, DC. The meeting will commence at 9 a.m. on Tuesday, July 22, 2003 and adjourn for the evening at 5 p.m. The meeting will reconvene at 8:30 a.m. on Wednesday, July 23, 2003 and adjourn at 3 p.m. The agenda will include: swearing in new Commissioners, Remarks by ONDCP Director John P. Walters, orientation for the members of the Commission, and background on the Drug Free Communities Program and community drug prevention and anti-drug coalitions. There will be an opportunity for public comment from 11 a.m. until 11:30 a.m. on Wednesday, July 23, 2003. Members of the public who wish to attend the meeting and/or make public comment should contact Stella Price at (202) 395-3617 to arrange building access.

FOR FURTHER INFORMATION CONTACT: Linda V. Priebe, (202) 395-6622.

Dated: June 23, 2003.
Linda V. Priebe,
Assistant General Counsel.

[FR Doc. 03-16263 Filed 6-26-03; 8:45 am]

BILLING CODE 3180-02-P